DEPARTMENT OF TRANSPORTATION

Federal Aviation Administration

14 CFR Part 39

[Docket No. 2002-NM-36-AD; Amendment 39-12800; AD 2002-13-12 ]

RIN 2120-AA64

Airworthiness Directives; McDonnell Douglas Model DC-9-10, -30, -30F, and -40 Series Airplanes, and Model C-9 Airplanes

AGENCY: Federal Aviation Administration, DOT.

ACTION: Final rule.

SUMMARY: This amendment supersedes an existing airworthiness directive (AD), applicable to certain McDonnell Douglas Model DC-9-10, -30, and -40 series airplanes and Model C-9 airplanes, that currently requires an inspection to detect chafing of the wiring of the attendants' work light of the aft cabin, and repair of chafed wiring. That AD also requires modification and reidentification of the attendants' work light assemblies of the aft cabin. This amendment revises the applicability of the existing AD. The actions specified by this AD are intended to prevent chafing of the ground wire against the positive contact of the lamp of the attendants' work light of the aft cabin, and consequent arcing or arcing damage to the wiring of the attendants' work light and transformer of the aft cabin. Such arcing or arcing damage could result in short circuits and consequent smoke and fire in the aft cabin area. The actions of this AD are intended to address the identified unsafe condition.

DATES: Effective August 13, 2002.

The incorporation by reference of McDonnell Douglas Alert Service Bulletin DC9-33A058, Revision 03, dated November 21, 2001, as listed in the regulations, is approved by the Director of the Federal Register as of August 13, 2002.

The incorporation by reference of McDonnell Douglas Alert Service Bulletin DC9-33A058, Revision 02, dated January 27, 2000, as listed in the regulations, was approved previously by the Director of the Federal Register as of January 16, 2002 (66 FR 64133, December 12, 2001).

ADDRESSES: The service information referenced in this AD may be obtained from Boeing Commercial Aircraft Group, Long Beach Division, 3855 Lakewood Boulevard, Long Beach, California 90846, Attention Data and Service Management, Dept. C1-L5A (D800-0024). This information may be examined at the Federal Aviation Administration (FAA), Transport Airplane Directorate, Rules Docket, 1601 Lind Avenue, SW., Renton, Washington; or at the FAA, Los Angeles Aircraft Certification Office, 3960 Paramount Boulevard, Lakewood, California; or at the Office of the Federal Register, 800 North Capitol Street, NW., suite 700, Washington, DC.

FOR FURTHER INFORMATION CONTACT: Technical Information: Elvin Wheeler, Aerospace Engineer, Systems and Equipment Branch, ANM-130L, FAA, Los Angeles Aircraft Certification Office, 3960 Paramount Boulevard, Lakewood, California 90712-4137; telephone (562) 627-5344; fax (562) 627-5210.

Other Information: Sandi Carli, Airworthiness Directive Technical Editor/Writer; telephone (425) 687-4243, fax (425) 227-1232. Questions or comments may also be sent via the Internet using the following address: sandi.carli@faa.gov. Questions or comments sent via the Internet as attached electronic files must be formatted in Microsoft Word 97 for Windows or ASCII text.

SUPPLEMENTARY INFORMATION: A proposal to amend part 39 of the Federal Aviation Regulations (14 CFR part 39) by superseding AD 2001-24-15, amendment 39-12532 (66 FR 64133, December 12, 2001), which is applicable to certain McDonnell Douglas Model DC-9-10, -30, and -40 series airplanes, and Model C-9 airplanes, was published in the Federal Register on March 18, 2002 (67 FR 11952). The action proposed to continue to require an inspection to detect chafing of the wiring of the attendants' work light of the aft cabin, and repair of chafed wiring; and modification and reidentification of the attendants' work light assemblies of the aft cabin; and to revise the applicability of the existing AD.

Comments

Interested persons have been afforded an opportunity to participate in the making of this amendment. No comments were submitted in response to the proposal or the FAA's determination of the cost to the public.

Changes to the Final Rule

Note 3 in the final rule has been revised to more specifically define the general visual inspection.

New subparagraph (c)(2) of this AD has been added to explain that certain alternative methods of compliance that have been approved for AD 2001-24-15, amendment 39-12532, are approved for the corresponding requirements of this AD.

The applicability section of this AD has been revised to more clearly identify the affected airplanes.

The Cost Impact section of the proposed AD incorrectly identified 176 airplanes in the worldwide affected fleet. This figure has been revised in the final rule.

Conclusion

The FAA has determined that air safety and the public interest require the adoption of the rule with the changes previously described. The FAA has determined that these changes will neither increase the economic burden on any operator nor increase the scope of the AD.

Cost Impact

There are approximately 387 Model DC-9-10, -30, and -40 series airplanes, and Model C-9 airplanes of the affected design in the worldwide fleet. The FAA estimates that 278 airplanes of U.S. registry will be affected by this AD.

The actions that are currently required by AD 2001-24-15 take approximately 1 work hour per airplane to accomplish, at an average labor rate of $60 per work hour. Based on these figures, the cost impact of the currently required actions is estimated to be $60 per airplane.

This AD adds no new actions or requirements, but only revises the applicability of the existing AD. Therefore, the estimated cost impact for this AD is unchanged.

The cost impact figure discussed above is based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing amendment 39-12532 (66 FR 64133, December 12, 2001), and by adding a new airworthiness directive (AD), amendment 39-12800, to read as follows:

2002-13-12 McDonnnel Douglas: Amendment 39-12800. Docket 2002-NM-36-AD. Supersedes AD 2001-24-15, Amendment 39-12532.

Applicability: Model DC-9-10, -30, -30F, and -40 series airplanes, and Model C-9 airplanes; certificated in any category; as listed in McDonnell Douglas Alert Service Bulletin DC9-33A058, Revision 03, dated November 21, 2001; and equipped with an attendants' work light in the aft cabin.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (c)(1) of this AD. The request should include an assessment of the effect of the modification, alteration, or repair on the unsafe condition addressed by this AD; and, if the unsafe condition has not been eliminated, the request should include specific proposed actions to address it.

Compliance: Required as indicated, unless accomplished previously.

To prevent arcing or arcing damage to the wiring of the attendants' work light of the aft cabin due to chafing of the ground wire against the positive contact of the lamp of the attendants' work light and transformer of the aft cabin, which could result in short circuits and consequent smoke and fire in the aft cabin area, accomplish the following:

Note 2: Paragraph (a) of this AD merely restates the requirements of paragraph (a) of AD 2001-24-15, amendment 39-12532. As allowed by the phrase, “unless accomplished previously,” if those requirements of AD 2001-24-15 have already been accomplished, this AD does not require that those actions be repeated.

Restatement of AD 2001-24-15

(a) For airplanes listed in McDonnell Douglas Alert Service Bulletin DC9-33A058, Revision 02, dated January 27, 2000: Within 1 year after January 16, 2002 (the effective date of AD 2001-24-15), do the actions specified in paragraphs (a)(1) and (a)(2) of this AD, per McDonnell Douglas Alert Service Bulletin DC9-33A058, Revision 02, dated January 27, 2000.

(1) Do a general visual inspection to detect chafing of the wiring of the attendants' work light of the aft cabin. If any chafing is detected, before further flight, repair chafed wiring per the service bulletin.

Note 3: For the purposes of this AD, a general visual inspection is defined as: “A visual examination of an interior or exterior area, installation, or assembly to detect obvious damage, failure, or irregularity. This level of inspection is made from within touching distance unless otherwise specified. A mirror may be necessary to enhance visual access to all exposed surfaces in the inspection area. This level of inspection is made under normally available lighting conditions such as daylight, hangar lighting, flashlight, or droplight and may require removal or opening of access panels or doors. Stands, ladders, or platforms may be required to gain proximity to the area being checked.”

(2) Modify and reidentify the attendants' work light assemblies of the aft cabin.

New Requirements of This AD

(b) For airplanes listed in McDonnell Douglas Alert Service Bulletin

DC9-33A058, Revision 03, dated November 21, 2001: Within 1 year after the effective date of this AD, do the actions specified in paragraphs (b)(1) and (b)(2) of this AD, per McDonnell Douglas Alert Service Bulletin DC9-33A058, Revision 03, dated November 21, 2002.

(1) Do a general visual inspection to detect chafing of the wiring of the attendants' work light of the aft cabin. If any chafing is detected, before further flight, repair chafed wiring per the service bulletin.

(2) Modify and reidentify the attendants' work light assemblies of the aft cabin.

Note 4: Inspections, repairs, modifications, and reidentifications done before the effective date of this AD per McDonnell Douglas Service Bulletin DC9-33-058, dated June 5, 1973; Revision 1, dated November 26, 1975; or Revision 02, dated January 27, 2000; are considered acceptable for compliance with the requirements of this AD.

1

Alternative Methods of Compliance

(c)(1) An alternative method of compliance or adjustment of the compliance time that provides an acceptable level of safety may be used if approved by the Manager, Los Angeles Aircraft Certification Office, FAA. Operators shall submit their requests through an appropriate FAA Principal Maintenance Inspector, who may add comments and then send it to the Manager, Los Angeles ACO.

(2) Alternative methods of compliance, approved previously in accordance with AD 2001-24-15, are approved as alternative methods of compliance with paragraph (a) of this AD.

Note 5: Information concerning the existence of approved alternative methods of compliance with this AD, if any, may be obtained from the Los Angeles ACO.

Special Flight Permits

(d) Special flight permits may be issued in accordance with sections 21.197 and 21.199 of the Federal Aviation Regulations (14 CFR 21.197 and 21.199) to operate the airplane to a location where the requirements of this AD can be accomplished.

Incorporation by Reference

(e) The actions shall be done in accordance with McDonnell Douglas Alert Service Bulletin DC9-33A058, Revision 02, dated January 27, 2000; and McDonnell Douglas Alert Service Bulletin DC9-33A058, Revision 03, dated November 21, 2001; as applicable.

(1) The incorporation by reference of McDonnell Douglas Alert Service Bulletin DC9-33A058, Revision 03, dated November 21, 2001, is approved by the Director of the Federal Register in accordance with 5 U.S.C. 552(a) and 1 CFR part 51.

(2) The incorporation by reference of McDonnell Douglas Alert Service Bulletin DC9-33A058, Revision 02, dated January 27, 2000, was approved previously by the Director of the Federal Register as of January 16, 2002 (66 FR 64133, December 12, 2001).

(3) Copies may be obtained from Boeing Commercial Aircraft Group, Long Beach Division, 3855 Lakewood Boulevard, Long Beach, California 90846, Attention Data and Service Management, Dept. C1-L5A (D800-0024). Copies may be inspected at the FAA, Transport Airplane Directorate, 1601 Lind Avenue, SW., Renton, Washington; or at the FAA, Transport Airplane Directorate, Los Angeles Aircraft Certification Office, 3960 Paramount Boulevard, Lakewood, California; or at the Office of the Federal Register, 800 North Capitol Street, NW., suite 700, Washington, DC.

Effective Date

(f) This amendment becomes effective on August 13, 2002.

Issued in Renton, Washington, on June 26, 2002.
Kalene C. Yanamura,
Acting Manager, Transport Airplane Directorate, Aircraft Certification Service.

[FR Doc. 02-16677 Filed 7-8-02; 8:45 am]

BILLING CODE 4910-13-P